DEPARTMENT OF THE INTERIOR

Bureau of Land Management

[LLWO300000.L1430000]

Notice of Meeting Cancellation

AGENCY: Bureau of Land Management, Interior.

ACTION: Notice.

SUMMARY: On April 21, 2011, the Bureau of Land Management (BLM) published a notice in the Federal Register [77 FR 22414] announcing a public meeting in connection with a proposed withdrawal to be held on Monday, May 23, 2011, from 6 to 8 p.m. at the BLM Southern Nevada District Office. The BLM has cancelled the meeting. The BLM will reschedule the meeting later.

FOR FURTHER INFORMATION CONTACT: Linda Resseguie, BLM, by telephone at (202) 912-7337, or by e-mail at linda_resseguie@blm.gov.

Michael D. Nedd,
Assistant Director, Minerals and Realty Management, Bureau of Land Management.

[FR Doc. 2011-12098 Filed 5-16-11; 8:45 am]

BILLING CODE 4310-84-P